DEPARTMENT OF THE TREASURY

Submission for OMB Review; Comment Request

July 10, 2007.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before August 16, 2007 to be assured of consideration.

Internal Revenue Service (IRS)

OMB Number: 1545-0137.

Type of Review: Revision.

Title: Contract Coverage Under Title II of the Social Security Act.

Form: 2032.

Description: U.S. citizens and resident aliens employed abroad by foreign affiliates of American employers are exempt from social security taxes. Under Internal Revenue Code section 3121(1), American employers may file an agreement on Form 2032 to waive this exemption and obtain social security coverage for U.S. citizens and resident aliens employed abroad by their foreign affiliates. The American employers can later file Form 2032 to cover additional foreign affiliates as an amendment to their original agreement.

Respondents: Individuals or households.

Estimated Total Burden Hours: 973 hours.

OMB Number: 1545-0122.

Type of Review: Extension.

Title: Foreign Tax Credit Corporations.

Form: 1118, Schedules I & J.

Description: Form 1118 and separate Schedules I and J are used by domestic and foreign corporations to claim a credit for taxes paid to foreign countries. The IRS uses Form 1118 and related schedules to determine if the corporation has computed the foreign tax credit correctly.

Respondents: Businesses or other for-profit institutions.

Estimated Total Burden Hours: 4,031,736 hours.

OMB Number: 1545-0575.

Type of Review: Revision.

Title: Return of Excise Taxes Related to Employee Benefit Plans.

Form: 5330.

Description: U.S. Code sections 4971, 4972, 4973(a)(3), 4975, 4976, 4977, 4978, 4978A, 4978B, 4979, 4979A and 4980 impose various excise taxes in connection with employee benefit plans. Form 5330 is used to compute and collect these taxes.

Respondents: Businesses or other for-profit institutions.

Estimated Total Burden Hours: 478,215 hours.

OMB Number: 1545-1596.

Type of Review: Extension.

Title: Request for Innocent Spouse Relief.

Form: 8857.

Description: Section 6103(e) of the Internal Revenue Code allows taxpayers to request, and IRS to grant, “innocent spouse” relief when: taxpayer filed a joint return with tax substantially understated; taxpayer establishes no knowledge of or benefit from, the understatement; and it would be inequitable to hold the taxpayer liable. GAO Report GAO/GGD-97-34 recommended that IRS develop a form to make relief easier for the public to request.

Respondents: Businesses and other for-profit institutions.

Estimated Total Burden Hours: 2,070 hours.

OMB Number: 1545-0800.

Type of Review: Revision.

Title: Reg. 601.601 Rules and Regulations.

Description: Persons wishing to speak at a public hearing on a proposed rule must submit written comments and an outline within prescribed time limits, for use in preparing agendas and allocating time. Persons interested in the issuance, amendment, of repeal of a rule may submit a petition for this. IRS considers the petitions in its deliberations.

Respondents: Individuals or households.

Estimated Total Burden Hours: 240,500 hours.

OMB Number: 1545-1881.

Type of Review: Extension.

Title: Election To Treat a Qualified Revocable Trust as Party of an Estate.

Form: 8855.

Description: Form 8855 is used to make a section 645 election that allows a qualified revocable trust to be treated and taxed (for income tax purposes) as part of its related estate during the election period.

Respondents: Businesses and other for-profit institutions.

Estimated Total Burden Hours: 28,200 hours.

OMB Number: 1545-1155.

Type of Review: Extension.

Title: PS-74-89 (TD 8282) Final Election of Reduced Research Credit Estate Tax (TD 8686).

Description: These regulations prescribe the procedure for making the election described in section 280C(c)(3) of the Internal Revenue Code. Taxpayers making this election must reduce their section 41(a) research credit, but are not required to reduce their deductions for qualified research expenses, as required in paragraphs (1) and (2) of section 280C(c).

Respondents: Businesses and other for-profit institutions.

Estimated Total Burden Hours: 50 hours.

OMB Number: 1545-0806.

Type of Review: Extension.

Title: EE-12-78 (Final) Non-Bank Trustees.

Description: Section 408(a)(2) permits an institution other than a bank to be the trustee of an individual retirement account. Section 1.408-2(e)(1) of the Income Tax Regulations provides that such an institution must file a written application with the IRS demonstrating its ability to act as trustee. Section 1.408-2(e)(2) requires an applicant to demonstrate in detail in his written application the ability to act within the accepted rules of fiduciary conduct. Certain reporting and recordkeeping requirements must be demonstrated by an applicant in his written application and are imposed in connection with the ongoing activities of a non-bank trustee.

Respondents: Businesses or other for-profit institutions.

Estimated Total Burden Hours: 13 hours.

Clearance Officer: Glenn P. Kirkland, (202) 622-3428, Internal Revenue Service, Room 6516, 1111 Constitution Avenue, NW., Washington, DC 20224.

OMB Reviewer: Alexander T. Hunt, (202) 395-7316, Office of Management and Budget, Room 10235, New Executive Office Building, Washington, DC 20503.

Robert Dahl,
Treasury PRA Clearance Officer.

[FR Doc. E7-13743 Filed 7-16-07; 8:45 am]

BILLING CODE 4830-01-P